DEPARTMENT OF THE INTERIOR

Bureau of Ocean Energy Management

[MMAA104000]

Proposed Geological and Geophysical (G&G) Activities on the Mid- and South Atlantic Outer Continental Shelf (OCS)

AGENCY: Bureau of Ocean Energy Management (BOEM), Interior.

ACTION: Notice of Availability (NOA) of a Record of Decision (ROD) for the Atlantic OCS Proposed Geological and Geophysical Activities, Mid-Atlantic and South Atlantic Planning Areas, Final Programmatic Environmental Impact Statement (PEIS).

Description: The ROD documents BOEM's selection of Alternative B of the PEIS. The PEIS was prepared to assess environmental impacts of authorizing geological and geophysical (G&G) survey activities in the Mid-Atlantic and South Atlantic Planning Areas between 2012 and 2020. The PEIS covers G&G activities conducted under BOEM's oil and gas, renewable energy, and marine minerals programs. The purpose of the proposed action addressed by the PEIS is to gather state-of-the-practice data about the ocean bottom and subsurface of the Area of Interest. These data are needed to inform government and business decisions regarding resource availability and use. The PEIS evaluates and the ROD discusses three potential alternative actions by BOEM: Alternative A—to authorize G&G activities with time-area closures and other mitigation measures; Alternative B—to authorize G&G activities with mitigation measures in addition to those provided in Alternative A; and Alternative C—no action or the status quo.

Record of Availability: To obtain a single printed or CD copy of the ROD for the Final PEIS, you may contact BOEM, Gulf of Mexico OCS Region, Public Information Office (GM 335A), 1201 Elmwood Park Boulevard, New Orleans, Louisiana 70123-2394 (1-800-200-GULF). An electronic copy of the ROD is available on BOEM's Internet Web site at http://www.boem.gov/Oil-and-Gas-Energy-Program/GOMR/GandG.aspx or at http://www.boem.gov/nepaprocess/.

FOR FURTHER INFORMATION CONTACT: For more information on the ROD, you may contact Mr. Gary D. Goeke, Chief, Environmental Assessment Section, Office of Environment (GM 623E), Bureau of Ocean Energy Management, Gulf of Mexico OCS Region, 1201 Elmwood Park Boulevard, New Orleans, Louisiana 70123-2394, or by email at ggeis@boem.gov. You may also contact Mr. Goeke by telephone at 504-736-3233.

Authority: This NOA is published pursuant to the regulations (40 CFR 1506.6) implementing the provisions of the NEPA of 1969, as amended (42 U.S.C. 4321 et seq. [1988]).

Dated: July 7, 2014.
Walter D. Cruickshank,
Acting Director, Bureau of Ocean Energy Management.

[FR Doc. 2014-17386 Filed 7-21-14; 8:45 am]

BILLING CODE 4310-MR-P